DEPARTMENT OF ENERGY

Federal Energy Regulatory Commission

[Docket No. RP04-115-000]

Sea Robin Pipeline Company; Notice of Flowthrough Crediting Mechanism

December 30, 2003.

Take notice that on December 19, 2003, Sea Robin Pipeline Company (Sea Robin) submitted its Annual Flowthrough Crediting Mechanism Filing. Sea Robin states that this filing was made pursuant to Section 27 of the General Terms and Conditions of Sea Robin's FERC Gas Tariff which requires Sea Robin to: (1) Credit certain amounts received as a result of resolving monthly imbalances between its gas and liquefiables shippers and under its operational balancing agreements, as described in section 6 of its Tariff, and (2) accumulate amounts received as a result of imposing scheduling penalties, as described in section 5.8 of its Tariff.

Sea Robin reports that it received $805,434.08 in excess of amounts paid to shippers for the twelve months ended October 31, 2003. Sea Robin states that, in accordance with section 27.1, this excess amount will be credited to shippers, based upon shippers' transportation volumes for the twelve months ended October 31, 2003.

Sea Robin further states that copies of this filing are being served on all affected customers and applicable state regulatory agencies.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-6 Filed 1-8-04; 8:45 am]

BILLING CODE 6717-01-P